DEPARTMENT OF EDUCATION

Privacy Act of 1974; Computer Matching Program Between the Department of Education (ED) and the Social Security Administration (SSA)

AGENCY: Department of Education.

ACTION: Notice.

SUMMARY: Pursuant to the Privacy Act of 1974, as amended by the Computer Matching and Privacy Protection Act of 1988 and the Computer Matching and Privacy Protections Amendments of 1990 (Privacy Act), and Office of Management and Budget (OMB) guidance on the conduct of computer matching programs, notice is hereby given of the renewal of the computer matching program between ED (recipient agency) and the SSA (source agency). This renewal of the computer matching program will become effective as explained in paragraph 5.

DATES:

SUPPLEMENTARY INFORMATION: In accordance with the Privacy Act of 1974, as amended (5 U.S.C. 552a) OMB Final Guidance Interpreting the Provisions of Public Law 100-503, the Computer Matching and Privacy Protection Act of 1988, published in the Federal Register on June 19, 1989 (54 FR 25818), and OMB Circular No. A-130, Transmittal Memorandum #4, Management of Federal Information Resources (November 28, 2000), we provide the following information:

1. Names of Participating Agencies.

The U.S. Department of Education and the Social Security Administration.

2. Purpose of the Match.

The purpose of this matching program between ED and SSA is to assist the Secretary of Education with verification of immigration status and Social Security numbers (SSNs) under 20 U.S.C. 1091(g) and (p). SSA will verify the issuance of an SSN to, and will confirm the citizenship status of, those students and parents applying for financial assistance programs authorized under title IV of the Higher Education Act of 1965, as amended (HEA). Verification of this information by SSA will help ED satisfy its obligation to ensure that individuals applying for financial assistance meet eligibility requirements imposed by the HEA.

Verification by this computer matching program effectuates the purpose of the HEA because it provides an efficient and comprehensive method of verifying the accuracy of each individual's SSN and claim to a citizenship status that permits that individual to qualify for title IV, HEA assistance.

3. Authority for Conducting the Matching Program.

ED is authorized to participate in the matching program under sections 428B(f) (20 U.S.C. 1078-2(f)), 483(a)(12) (20 U.S.C. 1090(a)(12)), 484(g) (20 U.S.C. 1091(g)), and 484(p) (20 U.S.C. 1091(p))of the HEA.

SSA is authorized to participate in the matching program under section 1106(a) of the Social Security Act (42 U.S.C. 1306(a)) and the regulations promulgated pursuant to that section (20 CFR part 401).

4. Categories of Records and Individuals Covered by the Match.

ED's system of records entitled “Federal Student Aid Application File” (18-11-01), which contains the information to determine an applicant's eligibility for Federal student financial assistance, and ED's system of records entitled “Person Authentication Service (PAS)” (18-11-12), which contains the applicant's information to receive PAS Credentials, a user ID and password, will be matched against SSA's Master Files of Social Security Number Holders and SSN Applications System, SSA/OS, 60-0058, which maintains records about each individual who has applied for, and obtained an, SSN.

5. Effective Date of the Matching Program.

The matching program will be effective on the latest of the following three dates: (a) April 10, 2016; (b) 30 days after notice of the matching program has been published in the Federal Register, as required by 5 U.S.C. 552a(e)(12); or (c) 40 days after a report concerning the matching program has been transmitted, as required by 5 U.S.C. 552a(r), to OMB and the U.S. House Committee on Oversight and Government Reform, and the U.S. Senate Committee on Homeland Security and Governmental Affairs, unless OMB waives 10 or fewer days of this 40-day review period for compelling reasons, in which case, 30 days plus whatever number of the 10 days that OMB did not waive from the date of the transmittal of the report to OMB and Congress.

The matching program will continue for 18 months after the effective date and may be extended for an additional 12 months thereafter, if the conditions specified in 5 U.S.C. 552a(o)(2)(D) have been met.

6. Address for Receipt of Public Comments or Inquiries.

Individuals wishing to comment on this matching program, or to obtain additional information about the program, including requesting a copy of the computer matching agreement between ED and SSA, should contact Marya Dennis, Management and Program Analyst, U.S. Department of Education, Union Center Plaza, 830 First Street NE., Washington, DC 20202-5454. Telephone: (202) 377-3385. If you use a telecommunications device (TDD) for the deaf or text telephone (TTY), call the Federal Relay Service, toll free, at 1-800-877-8339.

Accessible Format: Individuals with disabilities can obtain this document in an accessible format (e.g., braille, large print, audiotape, or compact disc) by contacting the contact person listed in the preceding paragraph.

Electronic Access to This Document: The official version of this document is the document published in the Federal Register. Free Internet access to the official edition of the Federal Register and the Code of Federal Regulations is available via the Federal Digital System at: www.gpo.gov/fsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 16, 2016.
James W. Runcie,
Chief Operating Officer Federal Student Aid.

[FR Doc. 2016-04465 Filed 2-29-16; 8:45 am]

BILLING CODE 4000-01-P